DEPARTMENT OF THE INTERIOR

Bureau of Land Management

[CO-01-134-1610-241A]

Colorado Canyons National Conservation Area Advisory Council Meeting

AGENCY: Bureau of Land Management, Interior.

ACTION: Notice of meetings.

SUMMARY: The Colorado Canyons National Conservation Area (CCNCA) Advisory Council will hold its first bi-monthly meeting of 2004 on April 7, 2004. The meeting will begin at 3 p.m. and will be held at the Mesa County Administration Building; 544 Rood Avenue, Grand Junction, CO. Throughout the remainder of calendar year 2004, the CCNCA Advisory Council meetings will be held the first Wednesday of every other month—June 2, August 4, October 6 and December 1—in the same location and at the same time.

DATES: The meeting will be held on April 7, 2004.

ADDRESSES: For further information or to provide written comments, please contact the Bureau of Land Management (BLM), 2815 H Road, Grand Junction, Colorado 81506; (970) 244-3000.

SUPPLEMENTARY INFORMATION: The CCNCA was established on October 24, 2000 when the Colorado Canyons National Conservation Area and Black Ridge Wilderness Act of 2000 (the Act) was signed by the President. The Act required that the CCNCA Advisory Council be established to provide advice in the preparation and implementation of the CCNCA Resource Management Plan.

The CCNCA Advisory Council will meet on Wednesday, April 7, 2004 at the Mesa County Administration Building; 544 Rood Avenue, Grand Junction, CO, beginning at 3 p.m. The agenda topics for this meeting are:

(1) The re-election of council officials;

(2) CCNCA Resource Management Plan implementation and monitoring strategy;

(3) Budgetary requirements for upcoming fiscal years;

(4) Development of Limits of Acceptable change to be used in the CCNCA monitoring strategy;

(5) Public comment period;

(6) Agenda for next meeting.

Beginning April 2004 the CCNCA Advisory Council meetings will be held monthly on the first Wednesday of every other month at the same time and location. The dates for these meetings are April 7, 2004; June 2, 2004; August 4, 2004; October 6, 2004; and December 1, 2004.

Topics of discussion for future meetings will include completion of the proposed resource management plan and Record of Decision, development of limits of acceptable change to be used in the CCNCA monitoring strategy, partnerships, interpretation, adaptive management, socioeconomics, and other issues as appropriate.

All meetings will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within thirty (30) days following the meeting. In addition, minutes and other information concerning the CCNCA Advisory Council, can be obtained from the CCNCA Web site at: http://www.co.blm.gov/gjra/ccnca/ccncahome.htm., which will be updated following each Advisory Council meeting.

Dated: February 20, 2004.
Greg Gnesios,
Manager, Colorado Canyons National Conservation Area.

[FR Doc. 04-4354 Filed 2-26-04; 8:45 am]

BILLING CODE 4310-JB-P